DEPARTMENT OF ENERGY

Federal Energy Regulatory Commission

[Docket No. CP08-154-000]

Williston Basin Interstate Pipeline Company; Notice of Request Under Blanket Authorization

April 24, 2008.

Take notice that on April 15, 2008, Williston Basin Interstate Pipeline Company (Williston Basin), 1250 West Century Avenue, Bismarck, North Dakota 58503, filed in Docket No. CP08-154-000 a prior notice request pursuant to sections 157.205, 157.208 and 157.213 of the Commission's regulations under the Natural Gas Act (NGA) and Williston Basin's blanket certificate issued in Docket No. CP82-487-000 for the construction, authorization, and abandonment of mainline natural gas facilities (compression and measurement) in McKenzie and Williams County, as more fully set forth in the application, which is on file with the Commission and open to public inspection. The facilities will allow Williston Basin to deliver incremental firm transportation service to shippers that signed precedent agreements resulting from an open season ended November 30, 2007. Williston Basin states that the estimated cost to construct the facilities is approximately $7,300,000. The filing may also be viewed on the web at http://www.ferc.gov using the “eLibrary” link. Enter the docket number excluding the last three digits in the docket number field to access the document. For assistance, contact FERC at FERCOnlineSupport@ferc.gov or call toll-free, (886) 208-3676 or TTY, (202) 502-8659.

Any questions concerning this application may be directed to Keith A. Tiggelaar, Director of Regulatory Affairs, Williston Basin Interstate Pipeline Company, 1250 West Century Avenue, Bismarck, North Dakota 58503, or telephone (701) 530-1560 (e-mail keith.tiggelaar@wbip.com).

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a) (1)(iii) and the instructions on the Commission's Web site (http://www.ferc.gov) under the “e-Filing” link.

Kimberly D. Bose,
Secretary.

[FR Doc. E8-9794 Filed 5-2-08; 8:45 am]

BILLING CODE 6717-01-P